DEPARTMENT OF ENERGY

Federal Energy Regulatory Commission

[Docket No. RM07-10-000]

Transparency Provisions of Section 23 of the Natural Gas Act; Notice of Form No. 552 Technical Conference

March 6, 2008.

The staff of the Federal Energy Regulatory Commission (Commission) intends to hold a Technical Conference on Tuesday, April 22, 2008 to discuss issues related to the preparation and filing of Form No. 552. The Technical Conference will be held at the Commission's headquarters at 888 First Street, NE., Washington, DC, in the Commission Meeting Room and via teleconference.

On December 26, 2007, the Commission issued Order No. 704, Transparency Provisions of Section 23 of the Natural Gas Act.¹ Order No. 704 requires certain natural gas buyers and sellers to identify themselves to the Commission and report summary information about their physical natural gas transactions for the previous calendar year in Form No. 552, established for that purpose. During the Technical Conference, Commission staff and interested parties will discuss issues related to the preparation and submission of Form No. 552. Form No. 552 is available at http://www.ferc.gov/docs-filing/eforms.asp#552.

¹ Transparency Provisions of Section 23 of the Natural Gas Act, Order No. 704, 73 FR 1014 (Jan. 4, 2008), FERC Stats. & Regs. ¶ 31,260 (2008).

The Technical Conference will be organized around questions from natural gas buyers and sellers required to file Form No. 552. Participants who wish to submit questions in advance of the Technical Conference should submit questions by March 31, 2008, via the eFiling link on the Commission's Web site at http://www.ferc.gov. Filings submitting questions should refer to Docket No. RM07-10-000. Those filings will be available at the Commission or may be viewed on the Commission's Web site at http://www.ferc.gov, using the “eLibrary” link. Enter the docket number excluding the last three digits in the docket number field to access the document. For assistance accessing documents on eLibrary, contact FERC Online Support at FERCOnlineSupport@ferc.gov or via phone at (866) 208-3676 (toll-free). For TTY, contact (202) 502-8659.

All interested persons are invited to attend or call in for the Technical Conference. Those interested in participating by phone must register no later than April 11, 2008, on the FERC Web site at https://www.ferc.gov/whats-new/registration/form-552-04-22-form.asp. Those who will participate in person are encouraged, but not required, to register. There is no registration fee. Information for the meeting will be sent to registered participants. For additional information, please contact Michelle Reaux of FERC's Office of Enforcement at (202) 502-6497 or by e-mail at michelle.reaux@ferc.gov.

Commission conferences and meetings are accessible under section 508 of the Rehabilitation Act of 1973. For accessibility accommodations please send an e-mail to accessibility@ferc.gov or call toll-free (866) 208-3372 (voice) or 202-502-8659 (TTY), or send a fax to 202-208-2106 with the required accommodations.

Kimberly D. Bose,
Secretary.

[FR Doc. E8-5033 Filed 3-12-08; 8:45 am]

BILLING CODE 6717-01-P